DEPARTMENT OF TRANSPORTATION

Federal Aviation Administration

Notice of Intent To Request Revision From the Office of Management and Budget of a Currently Approved Information Collection Activity, Request for Comments; FAA Airport Master Record

AGENCY: Federal Aviation Administration (FAA), DOT.

ACTION: Notice and request for comments.

SUMMARY: The FAA invites public comments about our intention to request that the Office of Management and Budget (OMB) approve a current information collection. The information is required to carry out FAA missions related to the aviation industry, flight planning, and airport engineering.

DATES: Please submit comments by August 18, 2008.

FOR FURTHER INFORMATION CONTACT: Carla Mauney on (202) 267-9895, or by e-mail at: Carla.Mauney@faa.gov.

SUPPLEMENTARY INFORMATION:

Federal Aviation Administration (FAA).

Title: FAA Airport Master Record.

Type of Request: Extension without change of an approved collection.

OMB Control Number: 2120-0015.

Form(s): 5010-1, 5010-2, 5010-3, 5010-5.

Affected Public: A total of 19,345 Respondents.

Frequency: The information is collected on occasion.

Estimated Average Burden Per Response: Approximately 27 minutes per response.

Estimated Annual Burden Hours: An estimated 8,770 hours annually.

Abstract: 49 U.S.C. 329(b) directs the Secretary of Transportation to collect information about civil aeronautics. The information is required to carry out FAA missions related to the aviation industry, flight planning, and airport engineering. The database is the basic source of data for private, state, and Federal government aeronautical charts and publications.

ADDRESSES: Send comments to the FAA at the following address: Ms. Carla Mauney, Room 712, Federal Aviation Administration, IT Enterprises Business Services Division, AES-200, 800 Independence Ave., SW., Washington, DC 20591.

Comments Are Invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on June 11, 2008.
Carla Mauney,
FAA Information Collection Clearance Officer, IT Enterprises Business Services Division, AES-200.

[FR Doc. E8-13778 Filed 6-18-08; 8:45 am]

BILLING CODE 4910-13-M